DEPARTMENT OF AGRICULTURE

Animal and Plant Health Inspection Service

7 CFR Parts 330 and 354

9 CFR Parts 4, 11, 12, 49, 50, 51, 52, 53, 54, 70, 71, 72, 73, 74, 75, 77, 78, 79, 80, 85, 89, 91, 92, 93, 94, 95, 96, 97, 98, 99, 122, 123, 124, 130, 145, 147, 160, 161, 162, 166

[Docket No. 02-076-1]

Animal Health Protection Act; Revisions to Authority Citations

AGENCY: Animal and Plant Health Inspection Service, USDA.

ACTION: Final rule.

SUMMARY: We are amending the regulations in title 7, chapter III, and title 9, chapter I, to reflect the enactment of the Animal Health Protection Act (Pub. L. 107-171, 116 Stat. 494, 7 U.S.C. 8301 et seq.) in our lists of legal authorities. We are also removing or revising citations and references to animal health statutes that were repealed by the Animal Health Protection Act. In addition, we are updating the authority citations throughout our regulations in titles 7 and 9, where appropriate, to remove duplicative or outdated citations and are making other nonsubstantive editorial changes in the regulations for the sake of clarity.

EFFECTIVE DATE: February 7, 2003.

FOR FURTHER INFORMATION CONTACT: Ms. Cynthia Howard, Chief, Regulatory Analysis and Development, PPD, APHIS, Suite 3C03, 4700 River Road Unit 118, Riverdale, MD 20737-1238, (301) 734-5957.

SUPPLEMENTARY INFORMATION:

Background

In a memorandum titled “Delegations of Authority Farm Security and Rural Investment Act of 2002 (FSRIA),” dated July 10, 2002, the Secretary of Agriculture delegated to the Animal and Plant Health Inspection Service (APHIS) the authority to carry out Subtitle E of FSRIA, known as the Animal Health Protection Act (AHPA ) (Subtitle E, Pub. L. 107-171, 116 Stat. 494, 7 U.S.C. 8301 et seq.). In this document, we are amending titles 7 and 9 of the Code of Federal Regulations (referred to below as the regulations) to reflect the AHPA in our lists of legal authorities, update authority citations, and remove references to statutes that were repealed by the AHPA.

The AHPA repealed the following statutes:

1. Pub. L. 97-46 (7 U.S.C. 147b);

2. Section 101(b) of the Act of September 21, 1944 (7 U.S.C. 429);

3. The Act of August 28, 1950 (7 U.S.C. 2260);

4. Section 919 of the Federal Agriculture Improvement and Reform Act of 1996 (7 U.S.C. 2260a);

5. Section 306 of the Tariff Act of 1930 (19 U.S.C. 1306);

6. Sections 6 through 8 and 10 of the Act of August 30, 1890 (21 U.S.C. 102 through 105);

7. The Act of February 2, 1903 (21 U.S.C. 111, 120 through 122);

8. Sections 2 through 9, 11, and 13 of the Act of May 29, 1884 (21 U.S.C. 112, 113, 114, 114a, 114a-1, 115 through 120, 130);

9. The first section and sections 2, 3, and 5 of the Act of February 28, 1947 (21 U.S.C. 114b, 114c, 114d, 114d-1);

10. The Act of June 16, 1948 (21 U.S.C. 114e, 114f);

11. Pub. L. 87-209 (21 U.S.C. 114g, 114h);

12. The third and fourth provisos of the fourth paragraph under the heading “Bureau of Animal Industry” of the Act of May 31, 1920 (21 U.S.C. 116);

13. The first section and sections 2, 3, 4, and 6 of the Act of March 3, 1905 (21 U.S.C. 123 through 127);

14. The first proviso under the heading “General expenses, Bureau of Animal Industry” under the heading “BUREAU OF ANIMAL INDUSTRY” of the Act of June 30, 1914 (21 U.S.C. 128);

15. The fourth proviso under the heading “Salaries and Expenses” under the heading “Animal and Plant Health Inspection Service” of title I of the Agriculture, Rural Development, Food and Drug Administration, and Related Agencies Appropriations Act, 2001 (21 U.S.C. 129);

16. The third paragraph under the heading “MISCELLANEOUS” of the Act of May 26, 1910 (21 U.S.C. 131);

17. The first section and sections 2 through 6 and 11 through 13 of Pub. L. 87-518 (21 U.S.C. 134 through 134h);

18. Pub. L. 91-239 (21 U.S.C. 135 through 135b);

19. Sections 12 through 14 of the Federal Meat Inspection Act (21 U.S.C. 612 through 614); and

20. Chapter 39 of title 46, United States Code.

In this document we are also making other changes to the regulations, not related to enactment of the AHPA. We are:

1. Updating or removing from the regulations several outdated or extraneous authority citations;

2. Correcting several erroneous or outdated specific references to material in the U.S. Code and Code of Federal Regulations; and

3. Making other nonsubstantive editorial changes to enhance the clarity and usefulness of the regulations.

This rule relates to internal agency management. Therefore, this rule is exempt from the provisions of Executive Orders 12866 and 12988. Moreover, pursuant to 5 U.S.C. 553, notice of proposed rulemaking and opportunity for comment are not required for this rule, and it may be made effective less than 30 days after publication in the Federal Register. In addition, under 5 U.S.C. 804, this rule is not subject to congressional review under the Small Business Regulatory Enforcement Fairness Act of 1996, Pub. L. 104-121. Finally, this action is not a rule as defined by 5 U.S.C. 601 et seq., the Regulatory Flexibility Act, and thus is exempt from the provisions of that Act.

List of Subjects

7 CFR Part 330

Customs duties and inspection, Imports, Plant diseases and pests, Quarantine, Reporting and recordkeeping requirements, Transportation.

9 CFR Parts 49, 51, 52, 53, 70, 73, and 79

Administrative practice and procedure, Animal diseases, Cattle, Goats, Hogs, Indemnity payments, Livestock, Poultry and poultry products, Pseudorabies, Quarantine, Reporting and recordkeeping requirements, Scrapie, Sheep, Swine, Transportation.

9 CFR Parts 93, 94, 98, 99, and 124.

Administrative practice and procedure, Animal biologics, Animal diseases, Imports, Livestock, Meat and meat products, Milk, Patents, Poultry and poultry products, Quarantine, Reporting and recordkeeping requirements.

9 CFR Parts 130, 161, and 166

Animals, Birds, Diagnostic reagents, Exports, Hogs, Imports, Poultry and poultry products, Quarantine, Reporting and recordkeeping requirements, Tests, Veterinarians.

Accordingly, we are amending 7 CFR parts 330 and 354 and 9 CFR parts 4, 11, 12, 49, 50, 51, 52, 53, 54, 70, 71, 72, 73, 74, 75, 77, 78, 79, 80, 85, 89, 91, 92, 93, 94, 95, 96, 97, 98, 99, 122, 123, 124, 130, 145, 147, 160, 161, 162, and 166 as follows:

Title 7—Agriculture

PART 330—PLANT PEST REGULATIONS; GENERAL; PLANT PESTS; SOIL, STONE, AND QUARRY PRODUCTS; GARBAGE

1. The authority citation for part 330 is revised to read as follows:

Authority: 7 U.S.C. 450, 7701-7772, and 8301-8317; 21 U.S.C. 136 and 136a; 31 U.S.C. 9701; 42 U.S.C. 4331 and 4332; 7 CFR 2.22, 2.80, and 371.3.

2. In § 330.400, paragraph (f)(2) is revised to read as follows:

§ 330.400 Regulation of certain garbage.

* * * * *

(f) * * *

(2) Regulated garbage is subject to general surveillance for compliance with this section by Animal and Plant Health Inspection Service inspectors and to disposal measures authorized by the Plant Protection Act and the Animal Health Protection Act to prevent the introduction and dissemination of pests and diseases of plants and livestock.

* * * * *

PART 354—OVERTIME SERVICES RELATING TO IMPORTS AND EXPORTS; AND USER FEES

3. The authority citation for part 354 is revised to read as follows:

Authority: 7 U.S.C. 8301-8317; 21 U.S.C. 136 and 136a; 49 U.S.C. 80503; 7 CFR 2.22, 2.80, and 371.3.

Title 9—Animals and Animal Products

PART 4—RULES OF PRACTICE GOVERNING PROCEEDINGS UNDER THE ANIMAL WELFARE ACT

4. The authority citation for part 4 is revised to read as follows:

Authority: 7 U.S.C. 2149 and 2151; 7 CFR 2.22, 2.80, and 371.7.

PART 11—HORSE PROTECTION REGULATIONS

5. The authority citation for part 11 is revised to read as follows:

Authority: 15 U.S.C. 1823-1825 and 1828; 7 CFR 2.22, 2.80, and 371.7.

PART 12—RULES OF PRACTICE GOVERNING PROCEEDINGS UNDER THE HORSE PROTECTION ACT

6. In part 12, the citations “(84 Stat. 1406; 15 U.S.C. 1828)” that appear following the regulatory text of §§ 12.1 and 12.10 are removed and an authority citation for part 12 is added to read as follows:

Authority: 15 U.S.C. 1825 and 1828; 7 CFR 2.22, 2.80, and 371.7.

PART 49—RULES OF PRACTICE GOVERNING PROCEEDINGS UNDER CERTAIN ACTS

7. The authority citation for part 49 is revised to read as follows:

Authority: 7 U.S.C. 8301-8317; 7 CFR 2.22, 2.80, and 371.4.

§ 49.1 [Amended]

8. In section 49.1, the list of statutory provisions is amended by adding, in alphabetical order, an entry that reads: “The Animal Health Protection Act (7 U.S.C. 8301 et seq.).”.

PART 50—ANIMALS DESTROYED BECAUSE OF TUBERCULOSIS

9. The authority citation for part 50 is revised to read as follows:

Authority: 7 U.S.C. 8301-8317; 7 CFR 2.22, 2.80, and 371.4.

PART 51—ANIMALS DESTROYED BECAUSE OF BRUCELLOSIS

10. The authority citation for part 51 is revised to read as follows:

Authority: 7 U.S.C. 8301-8317; 7 CFR 2.22, 2.80, and 371.4.

§ 51.1 [Amended]

11. In § 51.1, the definition of recognized slaughtering establishment is amended by removing the words “Meat Inspection Act (21 U.S.C. 601-695)” and adding the words “Federal Meat Inspection Act (21 U.S.C. 601 et seq.)” in their place.

PART 52—SWINE DESTROYED BECAUSE OF PSEUDORABIES

12. The authority citation for part 52 is revised to read as follows:

Authority: 7 U.S.C. 8301-8317; 7 CFR 2.22, 2.80, and 371.4.

§ 52.1 [Amended]

13. In § 52.1, the definition of recognized slaughtering establishment is amended by removing the citation “(21 U.S.C. 601-695)” and adding the citation “(21 U.S.C. 601 et seq.)” in its place.

PART 53—FOOT-AND-MOUTH DISEASE, PLEUROPNEUMONIA, RINDERPEST, AND CERTAIN OTHER COMMUNICABLE DISEASES OF LIVESTOCK OR POULTRY

14. The authority citation for part 53 is revised to read as follows:

Authority: 7 U.S.C. 8301-8317; 7 CFR 2.22, 2.80, and 371.4.

§ 53.3 [Amended]

15. Section 53.3 is amended by removing the citation “(21 U.S.C. 112, 113, 115, 117, 120, 121, 134b)” that follows paragraph (d).

PART 54—CONTROL OF SCRAPIE

16. The authority citation for part 54 is revised to read as follows:

Authority: 7 U.S.C. 8301-8317; 7 CFR 2.22, 2.80, and 371.4.

PART 70—RULES OF PRACTICE GOVERNING PROCEEDINGS UNDER CERTAIN ACTS

17. The authority citation for part 70 is revised to read as follows:

Authority: 7 U.S.C. 8301-8317; 7 CFR 2.22, 2.80, and 371.4.

§ 70.1 [Amended]

18. In § 70.1, the list of statutory provisions is amended by adding, in alphabetical order, an entry that reads: “The Animal Health Protection Act (7 U.S.C. 8301 et seq.).”.

PART 71—GENERAL PROVISIONS

19. The authority citation for part 71 is revised to read as follows:

Authority: 7 U.S.C. 8301-8317; 7 CFR 2.22, 2.80, and 371.4.

PART 72—TEXAS (SPLENETIC) FEVER IN CATTLE

20. The authority citation for part 72 is revised to read as follows:

Authority: 7 U.S.C. 8301-8317; 7 CFR 2.22, 2.80, and 371.4.

PART 73—SCABIES IN CATTLE

21. The authority citation for part 73 is revised to read as follows:

Authority: 7 U.S.C. 8301-8317; 7 CFR 2.22, 2.80, and 371.4.

22. In § 73.1b, the first sentence is revised to read as follows:

§ 73.1b Quarantine policy.

Under the Animal Health Protection Act (7 U.S.C. 8301 et seq.), the Secretary may promulgate regulations and may prohibit or restrict the movement in interstate commerce of any animal, article, or means of conveyance as the Secretary determines necessary to prevent the introduction or dissemination of any pest or disease of livestock. * * *

PART 74—PROHIBITION OF INTERSTATE MOVEMENT OF LAND TORTOISES

23. The authority citation for part 74 is revised to read as follows:

Authority: 7 U.S.C. 8301-8317; 7 CFR 2.22, 2.80, and 371.4.

PART 75—COMMUNICABLE DISEASES IN HORSES, ASSES, PONIES, MULES, AND ZEBRAS

24. The authority citation for part 75 is revised to read as follows:

Authority: 7 U.S.C. 8301-8317; 7 CFR 2.22, 2.80, and 371.4.

PART 77—TUBERCULOSIS

25. The authority citation for part 77 is revised to read as follows:

Authority: 7 U.S.C. 8301-8317; 7 CFR 2.22, 2.80, and 371.4.

PART 78—BRUCELLOSIS

26. The authority citation for part 78 is revised to read as follows:

Authority: 7 U.S.C. 8301-8317; 7 CFR 2.22, 2.80, and 371.4.

PART 79—SCRAPIE IN SHEEP AND GOATS

27. The authority citation for part 79 is revised to read as follows:

Authority: 7 U.S.C. 8301-8317; 7 CFR 2.22, 2.80, and 371.4.

§ 79.2 [Amended]

28. In § 79.2, paragraph (f)(3), the second-to-last sentence is amended by removing the citation “21 U.S.C. 122 and 134e” and adding the citation “7 U.S.C. 8313” in its place.

PART 80—JOHNE'S DISEASE IN DOMESTIC ANIMALS

29. The authority citation for part 80 is revised to read as follows:

Authority: 7 U.S.C. 8301-8317; 7 CFR 2.22, 2.80, and 371.4.

PART 85—PSEUDORABIES

30. The authority citation for part 85 is revised to read as follows:

Authority: 7 U.S.C. 8301-8317; 7 CFR 2.22, 2.80, and 371.4.

PART 89—STATEMENT OF POLICY UNDER THE TWENTY-EIGHT HOUR LAW

31. The authority citation for part 89 is revised to read as follows:

Authority: 49 U.S.C. 80502; 7 CFR 2.22, 2.80, and 371.4.

PART 91—INSPECTION AND HANDLING OF LIVESTOCK FOR EXPORTATION

32. The authority citation for part 91 is revised to read as follows:

Authority: 7 U.S.C. 8301-8317; 19 U.S.C. 1644a(c); 21 U.S.C. 136, 136a, and 618; 46 U.S.C. 3901 and 3902; 7 CFR 2.22, 2.80, and 371.4.

PART 92—IMPORTATION OF ANIMALS AND ANIMAL PRODUCTS: PROCEDURES FOR REQUESTING RECOGNITION OF REGIONS

33. The authority citation for part 92 is revised to read as follows:

Authority: 7 U.S.C. 1622 and 8301-8317; 21 U.S.C. 136 and 136a; 31 U.S.C. 9701; 7 CFR 2.22, 2.80, and 371.4.

PART 93—IMPORTATION OF CERTAIN ANIMALS, BIRDS, AND POULTRY, AND CERTAIN ANIMAL, BIRD, AND POULTRY PRODUCTS; REQUIREMENTS FOR MEANS OF CONVEYANCE AND SHIPPING CONTAINERS

34. The authority citation for part 93 is revised to read as follows:

Authority: 7 U.S.C. 1622 and 8301-8317; 21 U.S.C. 136 and 136a; 31 U.S.C. 9701; 7 CFR 2.22, 2.80, and 371.4.

§ 93.101 [Amended]

35. In § 93.101, paragraph (d)(1)(ii) is amended by removing the words “as provided in section 5 of the Act of July 2, 1962 (21 U.S.C. 134d)”, and by removing the words “section 2 of the Act of July 2, 1962 (21 U.S.C. 134a)” and adding the words “the Animal Health Protection Act (7 U.S.C. 8301 et seq.)” in their place.

§ 93.106 [Amended]

36. Section 93.106 is amended as follows:

a. In paragraph (a), by removing the words “, in accordance with the provisions of section 2 of the Act of July 2, 1962 (21 U.S.C. 134a)”.

b. In paragraph (b)(4), by removing the words “, in accordance with § 2 of the Act of July 2, 1962 (21 U.S.C. 134a)”.

c. In paragraph (c)(5)(iii), in the first paragraph of the text of the cooperative and trust fund agreement, by removing the words “section 2 of the Act of February 2, 1903, as amended, section 11 of the Act of May 29, 1884, as amended, and section 4 of the Act of July 2, 1962 (21 U.S.C. 111, 114a, and 134c, respectively),” and adding the words “the Animal Health Protection Act (7 U.S.C. 8301 et seq.)” in their place.

§ 93.201 [Amended]

37. In § 93.201, paragraph (b)(1)(ii) is amended by removing the words “as provided in section 5 of the Act of July 2, 1962 (21 U.S.C. 134d)”, and by removing the words “section 2 of the Act of July 2, 1962 (21 U.S.C. 134a)” and adding the words “the Animal Health Protection Act (7 U.S.C. 8301 et seq.)” in their place.

§ 93.202 [Amended]

38. In § 93.202, paragraph (a) is amended by removing the citation “(21 U.S.C. 134d)”.

§ 93.207 [Amended]

39. Section 93.207 is amended by removing the words “in accordance with provisions of section 2 of the Act of July 2, 1962 (21 U.S.C. 134a), or the provisions of section 8 of the Act of August 30, 1890 (21 U.S.C. 103)”.

§ 93.301 [Amended]

40. In § 93.301, paragraph (b)(1)(ii) is amended by removing the words “as provided in section 5 of the Act of July 2, 1962 (21 U.S.C. 134d)” and by removing the words “section 2 of the Act of July 2, 1962 (21 U.S.C. 134a)” and adding the words “the Animal Health Protection Act (7 U.S.C. 8301 et seq.)” in their place.

§ 93.302 [Amended]

41. In § 93.302, paragraph (a) is amended by removing the citation “(21 U.S.C. 134d)”.

§ 93.306 [Amended]

42. Section 93.306 is amended by removing the paragraph designation “(a)” from the regulatory text of the section, and by removing the words “in accordance with provisions of section 2 of the Act of July 2, 1962 (21 U.S.C. 134a), or the provisions of section 8 of the Act of August 30, 1890 (21 U.S.C. 103)”.

§ 93.401 [Amended]

43. Section 93.401 is amended as follows:

a. In paragraph (a), by removing the words “except as prohibited by section 306 of the Act of June 17, 1930, as amended (19 U.S.C. 1306),”.

b. In paragraph (b), in the introductory text, by removing the words “by section 306 of the Act of June 17, 1930, as amended (19 U.S.C. 1306)” and by removing the number “92” that appears after the word “part”.

c. In paragraph (b)(1)(ii), by removing the words “as provided in section 5 of the Act of July 2, 1962 (21 U.S.C. 134d)”, and by removing the words “section 2 of the Act of July 2, 1962 (21 U.S.C. 134a)” and adding the words “the Animal Health Protection Act (7 U.S.C. 8301 et seq.)” in their place.

§ 93.402 [Amended]

44. In § 93.402, paragraph (a) is amended by removing the citation “(21 U.S.C. 134d)”.

45. In § 93.404, paragraph (a)(2) is revised to read as follows:

§ 93.404 Import permits for ruminants and for ruminant test specimens for diagnostic purposes; and reservation fees for space at quarantine facilities maintained by APHIS.

(a) * * *

(2) An application for permit to import will be denied for domestic ruminants from any region designated in § 94.1 of this chapter as a region where rinderpest or foot-and-mouth disease exists.

* * * * *

§ 93.405 [Amended]

46. In § 93.405, paragraph (d) is amended by removing the words “thereafter in accordance with the provisions of section 8 of the Act of August 30, 1890 (26 Stat. 416; 21 U.S.C. 103),”.

§ 93.408 [Amended]

47. Section 93.408 is amended by removing the words “provisions of section 2 of the Act of July 2, 1962 (21 U.S.C. 134a), or the provisions of section 8 of the Act of August 30, 1890 (21 U.S.C. 103)” and adding the words “the Animal Health Protection Act (7 U.S.C. 8301 et seq.)” in their place.

§ 93.419 [Amended]

48. In § 93.419, paragraph (b) is amended by removing the words “thereafter in accordance with the provisions of section 8 of the act of August 30, 1890 (26 Stat. 416; 21 U.S.C. 103),”.

§ 93.423 [Amended]

49. In § 93.423, paragraph (d) is amended by removing the words “thereafter in accordance with the provisions of section 8 of the act of August 30, 1890 (26 Stat. 416; 21 U.S.C. 103),”.

§ 93.426 [Amended]

50. In § 93.426, paragraph (a) is amended by removing the words “thereafter in accordance with provisions of section 8 of the Act of August 30, 1890 (26 Stat. 416; 21 U.S.C. 103)” and by removing the comma after the word “Administrator”.

§ 93.428 [Amended]

51. In § 93.428, paragraph (c) is amended by removing the words “thereafter in accordance with the provisions of section 8 of the act of August 30, 1890 (26 Stat. 416; 21 U.S.C. 103),”.

§ 93.501 [Amended]

52. Section 93.501 is amended as follows:

a. In paragraph (a), by removing the words “except as prohibited by section 306 of the Act of June 17, 1930, as amended (19 U.S.C. 1306),”.

b. In paragraph (b), in the introductory text, by removing the words “by section 306 of the Act of June 17, 1930, as amended (19 U.S.C. 1306)”.

c. In paragraph (b)(1)(ii), by removing the words “as provided in section 5 of the Act of July 2, 1962 (21 U.S.C. 134d)”, and by removing the words “section 2 of the Act of July 2, 1962 (21 U.S.C. 134a)” and adding the words “the Animal Health Protection Act (7 U.S.C. 8301 et seq.)” in their place.

§ 93.502 [Amended]

53. In § 93.502, paragraph (a) is amended by removing the citation “(21 U.S.C. 134d)”.

54. In § 93.504, paragraph (a)(2) is revised to read as follows:

§ 93.504 Import permits for swine and for swine specimens for diagnostic purposes; and reservation fees for space at quarantine facilities maintained by APHIS.

(a) * * *

(2) An application for permit to import will be denied for domestic swine from any region designated in § 94.1 of this chapter as a region where rinderpest or foot-and-mouth disease exists.

* * * * *

§ 93.505 [Amended]

55. In § 93.505, paragraph (c) is amended by removing the words “thereafter in accordance with the provisions of section 8 of the act of August 30, 1890 (26 Stat. 416; 21 U.S.C. 103),”.

§ 93.507 [Amended]

56. Section 93.507 is amended by removing the paragraph designation “(a)” from the regulatory text of the section, and by removing the words “in accordance with provisions of section 2 of the Act of July 2, 1962 (21 U.S.C. 134a), or the provisions of section 8 of the Act of August 30, 1890 (21 U.S.C. 103)”.

57. In the center heading “Central America and West Indies” that immediately precedes § 93.520, footnote 8 is amended by removing the words “§§ 93.520 to 93.522 inclusive” and adding the citation “§ 93.520” in their place.

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

58. The authority citation for part 94 is revised to read as follows:

Authority: 7 U.S.C. 450, 7701-7772, and 8301-8317; 21 U.S.C. 136 and 136a; 31 U.S.C. 9701; 42 U.S.C. 4331 and 4332; 7 CFR 2.22, 2.80, and 371.4.

§ 94.1 [Amended]

59. In § 94.1, the introductory text of paragraph (a) is amended by removing the words “section 306 of the Act of June 17, 1930, as amended (19 U.S.C. 1306)” and adding the words “the Animal Health Protection Act (7 U.S.C. 8301 et seq.)” in their place.

§ 94.1a [Amended]

60. In § 94.1a, the introductory text of paragraph (a) is amended by removing the words “for the purposes of section 306(a) of the Act of June 17, 1930, as amended (19 U.S.C. 1306(a))”.

§ 94.4 [Amended]

61. In § 94.4, paragraph (b)(2) is amended by removing the citation “(21 U.S.C. 610 et seq.)” and adding the citation “(21 U.S.C. 601 et seq.)” in its place.

§ 94.5 [Amended]

62. In § 94.5, paragraph (e)(2) is amended by removing the words “, section 2 of the Act of February 2, 1903, as amended (21 U.S.C. 111), and section 306 of the Act of July 17, 1930, as amended (19 U.S.C. 1306)” and adding the words “the Animal Health Protection Act (7 U.S.C. 8301 et seq.)” in their place.

63. Section 94.7 is revised to read as follows:

§ 94.7 Disposal of animals, meats, and other articles ineligible for importation.

(a) Ruminants and swine, and fresh (chilled or frozen) meats, prohibited importation under §§ 94.1, 94.8, 94.9, 94.10, 94.12, 94.14, or 94.18, which come into the United States by ocean vessel and are offered for entry and refused admission into this country, shall be destroyed or otherwise disposed of as the Administrator may direct, unless they are exported by the consignee within 48 hours, and meanwhile are retained under such isolation and other safeguards as the Administrator may require to prevent the introduction or dissemination of livestock diseases into the United States.

(b) Ruminants and swine, and fresh (chilled or frozen) meats, prohibited importation under §§ 94.1, 94.8, 94.9, 94.10, 94.12, 94.14, or 94.18, which come into the United States aboard an airplane or railroad car and are offered for entry and refused admission into this country, shall be destroyed or otherwise disposed of as the Administrator may direct, unless they are exported by the consignee within 24 hours, and meanwhile are retained under such isolation and other safeguards as the Administrator may require to prevent the introduction or dissemination of livestock diseases into the United States.

(c) Ruminants and swine, and fresh (chilled or frozen) meats, prohibited importation under §§ 94.1, 94.8, 94.9, 94.10, 94.12, 94.14, or 94.18, which come into the United States by any means other than ocean vessel, airplane, or railroad car and are offered for entry and refused admission into this country, shall be destroyed or otherwise disposed of as the Administrator may direct, unless they are exported by the consignee within 8 hours, and meanwhile are retained under such isolation and other safeguards as the Administrator may require to prevent the introduction or dissemination of livestock diseases into the United States.

(d) Ruminants and swine, and fresh (chilled or frozen) meats, prohibited importation under §§ 94.1, 94.8, 94.9, 94.10, 94.12, 94.14, or 94.18, which come into the United States by any means but are not offered for entry into this country, and other animals, meats, and other articles prohibited importation under other sections of this part, which come into the United States by any means, whether they are offered for entry into this country or not, shall be immediately destroyed or otherwise disposed of as the Administrator may direct at any time.

§ 94.15 [Amended]

64. In § 94.15, paragraphs (b)(4) and (c)(4) are amended by removing the words “section 2 of the Act of February 2, 1903, as amended (21 U.S.C. 111)” and adding the words “the Animal Health Protection Act (7 U.S.C. 8301 et seq.)” in their place.

PART 95—SANITARY CONTROL OF ANIMAL BYPRODUCTS (EXCEPT CASINGS), AND HAY AND STRAW, OFFERED FOR ENTRY INTO THE UNITED STATES

65. The authority citation for part 95 is revised to read as follows:

Authority: 7 U.S.C. 8301-8317; 21 U.S.C. 136 and 136a; 31 U.S.C. 9701; 7 CFR 2.22, 2.80, and 371.4.

PART 96—RESTRICTION OF IMPORTATIONS OF FOREIGN ANIMAL CASINGS OFFERED FOR ENTRY INTO THE UNITED STATES

66. The authority citation for part 96 is revised to read as follows:

Authority: 7 U.S.C. 8301-8317; 21 U.S.C. 136 and 136a; 7 CFR 2.22, 2.80, and 371.4.

PART 97—OVERTIME SERVICES RELATING TO IMPORTS AND EXPORTS

67. The authority citation for part 97 is revised to read as follows:

Authority: 7 U.S.C. 8301-8317; 49 U.S.C. 80503; 7 CFR 2.22, 2.80, and 371.4.

PART 98—IMPORTATION OF CERTAIN ANIMAL EMBRYOS AND ANIMAL SEMEN

68. The authority citation for part 98 is revised to read as follows:

Authority: 7 U.S.C. 1622 and 8301-8317; 21 U.S.C. 136 and 136a; 31 U.S.C. 9701; 7 CFR 2.22, 2.80, and 371.4.

§ 98.32 [Amended]

69. In § 98.32, paragraph (a) is amended by removing the citation “(21 U.S.C. 134d)”.

PART 99—RULES OF PRACTICE GOVERNING PROCEEDINGS UNDER CERTAIN ACTS

70. The authority citation for part 99 is revised to read as follows:

Authority: 7 U.S.C. 8301-8317; 7 CFR 2.22, 2.80, and 371.4.

§ 99.1 [Amended]

71. In section 99.1, the list of statutory provisions is amended by adding, in alphabetical order, an entry that reads: “The Animal Health Protection Act, section 10414 (7 U.S.C. 8313)”.

PART 122—ORGANISMS AND VECTORS

72. The authority citation for part 122 is revised to read as follows:

Authority: 7 U.S.C. 8301-8317; 21 U.S.C. 151-158; 7 CFR 2.22, 2.80, and 371.4.

PART 123—RULES OF PRACTICE GOVERNING PROCEEDINGS UNDER THE VIRUS-SERUM-TOXIN ACT

73. The authority citation for part 123 is revised to read as follows:

Authority: 7 U.S.C. 8301-8317; 21 U.S.C. 151-159; 7 CFR 2.22, 2.80, and 371.4.

PART 124—PATENT TERM RESTORATION

74. The authority citation for part 124 continues to read as follows:

Authority: 35 U.S.C. 156; 7 CFR 2.22, 2.80, and 371.4.

75. In § 124.2, the definition of informal hearing is revised to read as follows:

§ 124.2 Definitions.

* * * * *

Informal Hearing. A hearing that is not subject to the provisions of 5 U.S.C. 554, 556, and 557 and that is conducted as provided in 21 U.S.C. 321(x).

* * * * *

PART 130—USER FEES

76. The authority citation for part 130 is revised to read as follows:

Authority: 5 U.S.C. 5542; 7 U.S.C. 1622 and 8301-8317; 21 U.S.C. 136 and 136a; 31 U.S.C. 3701, 3716, 3717, 3719, and 3720A; 7 CFR 2.22, 2.80, and 371.4.

§ 130.51 [Amended]

77. In § 130.51, paragraph (d) is amended by removing the citation “30 U.S.C. 3717” and adding the citation “31 U.S.C. 3717” in its place.

PART 145—NATIONAL POULTRY IMPROVEMENT PLAN

78. The authority citation for part 145 is revised to read as follows:

Authority: 7 U.S.C. 8301-8317; 7 CFR 2.22, 2.80, and 371.4.

PART 147—AUXILIARY PROVISIONS ON NATIONAL POULTRY IMPROVEMENT PLAN

79. The authority citation for part 147 is revised to read as follows:

Authority: 7 U.S.C. 8301-8317; 7 CFR 2.22, 2.80, and 371.4.

PART 160—DEFINITION OF TERMS

80. The authority citation for part 160 is revised to read as follows:

Authority: 7 U.S.C. 8301-8317; 15 U.S.C. 1828; 7 CFR 2.22, 2.80, and 371.4.

PART 161—REQUIREMENTS AND STANDARDS FOR ACCREDITED VETERINARIANS AND SUSPENSION OR REVOCATION OF SUCH ACCREDITATION

81. The authority citation for part 161 is revised to read as follows:

Authority: 7 U.S.C. 8301-8317; 15 U.S.C. 1828; 7 CFR 2.22, 2.80, and 371.4.

§ 161.4 [Amended]

82. In § 161.4, paragraph (d) is amended by removing the citation “18 U.S.C. 1001, 21 U.S.C. 117, 122, 127, and 134e” and adding the citation “7 U.S.C. 8313, 18 U.S.C. 1001” in its place.

PART 162—RULES OF PRACTICE GOVERNING REVOCATION OR SUSPENSION OF VETERINARIANS” ACCREDITATION

83. The authority citation for part 162 is revised to read as follows:

Authority: 7 U.S.C. 8301-8317; 15 U.S.C. 1828; 7 CFR 2.22, 2.80, and 371.4.

PART 166—SWINE HEALTH PROTECTION

84. The authority citation for part 166 is revised to read as follows:

Authority: 7 U.S.C. 3801-3813; 7 CFR 2.22, 2.8, and 371.4.

§ 166.14 [Amended]

85. In § 166.14, paragraph (a)(3) is amended by removing the citation “(7 U.S.C. 135 et seq.)” and adding the citation “(7 U.S.C. 136 et seq.)” in its place.

Done in Washington, DC, this 4th day of February 2003.
Peter Fernandez,
Acting Administrator, Animal and Plant Health Inspection Service.

[FR Doc. 03-3058 Filed 2-6-03; 8:45 am]

BILLING CODE 3410-34-P